DEPARTMENT OF JUSTICE

Notice of Lodging of Proposed Consent Decree Under the Comprehensive Environmental Response, Compensation, and Liability Act

On August 22, 2023, the Department of Justice lodged a proposed consent decree agreed to with defendants Atlantic Richfield Company and ARCO Environmental Remediation, LLC, in the United States District Court for the District of Montana in the lawsuit entitled United States and State of Montana v. Atlantic Richfield Company and ARCO Environmental Remediation, LLC, Civil Action No. 4:23-cv-00050-BMM. The consent decree resolves the United States' claims under the Comprehensive Environmental Response, Compensation, and Liability Act (“CERCLA”), for the performance of response actions and for payment of response costs incurred in connection with the release of hazardous substances at the ACM Smelter and Refinery Site in Cascade County, Montana. The consent decree also resolves related claims brought by the State of Montana, through the Montana Department of Environmental Quality, under the Montana Comprehensive Environmental Cleanup and Responsibility Act, 75-10-701, et seq. The consent decree obligates defendants to perform certain remedial actions to address soil contamination at the Site consistent with a Record of Decision issued by the U.S. Environmental Protection Agency (“EPA”), pay EPA $464,475.12 in reimbursement of past response costs, and reimburse EPA for future costs to oversee implementation of the work required by the settlement.

The publication of this notice opens a period for public comment on the consent decree. Comments should be addressed to the Assistant Attorney General, Environment and Natural Resources Division, and should refer to United States and State of Montana v. Atlantic Richfield Company and ARCO Environmental Remediation, LLC, Civil Action No. 4:23-cv-00050-BMM, D.J. Ref. No. 90-11-2-12191. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $269 (25 cents per page reproduction cost) payable to the United States Treasury. For a paper copy without the exhibits and signature pages, the cost is $7.25.

Jeffrey Sands,
Assistant Section Chief, Environmental Enforcement Section, Environment and Natural Resources Division.

[FR Doc. 2023-18646 Filed 8-29-23; 8:45 am]

BILLING CODE 4410-15-P